Title 3—

The President

Proclamation 8422 of September 25, 2009

Gold Star Mother's and Families' Day, 2009

By the President of the United States of America

A Proclamation

The sacrifices of our military servicemembers are etched in the walls of our monuments and felt at empty dinner tables across America. To those who have given their lives for our country, we honor them as guardians of our liberty and pay tribute to their valiant service. As our Nation remembers our fallen men and women in uniform, we also recognize the profound loss and sorrow of the family members they leave behind.

Few know the honor of service and the costs of war more than Gold Star Mothers and Families. They have given our Nation their most precious treasure, and we remain forever in their debt. Honoring the memory of their lost loved ones, these extraordinary individuals dedicate themselves to helping heal the hearts of other military families who bear the great burden of loss. Through their strength and service, they emulate their loved one's selfless dedication to our country.

On this day, we express immense gratitude and profound respect for Gold Star Mothers and Families. Our country's fallen heroes left the comfort of home so that we might know a more peaceful world. They endured extreme hardship so that we might enjoy freedom. They made the ultimate sacrifice so that we might be safe. They represent the best of America. In their memory, may we fulfill our solemn obligation to continue their work of securing a safer, freer world for generations to come.

The Congress, by Senate Joint Resolution 115 of June 23, 1936 (49 Stat. 1895 as amended), has designated the last Sunday in September as “Gold Star Mother's Day.”

NOW, THEREFORE, I, BARACK OBAMA, President of the United States of America, by virtue of the authority vested in me by the Constitution and the laws of the United States, do hereby proclaim Sunday, September 27, 2008, as Gold Star Mother's and Families' Day. I call upon all Government officials to display the flag of the United States over Government buildings on this special day. I also encourage the American people to display the flag and hold appropriate ceremonies as a public expression of our Nation's sympathy and respect for our Gold Star Mothers and Families.

IN WITNESS WHEREOF, I have hereunto set my hand this twenty-fifth day of September, in the year of our Lord two thousand nine, and of the Independence of the United States of America the two hundred and thirty-fourth.

[FR Doc. E9-23755

Filed 9-29-09; 11:15 am]

Billing code 3195-W9-P